DEPARTMENT OF HEALTH AND HUMAN SERVICES

Mandatory Guidelines for Federal Workplace Drug Testing Programs

AGENCY: Substance Abuse and Mental Health Services Administration (SAMHSA), Department of Health and Human Services.

ACTION: HHS Approval of Entities That Certify Medical Review Officers (MRO).

SUMMARY: The current version of the Department of Health and Human Services (HHS) Mandatory Guidelines for Federal Workplace Drug Testing Programs (Mandatory Guidelines), effective on October 1, 2010, addresses the role and qualifications of Medical Review Officers (MROs) and HHS approval of entities that certify MROs.

Subpart M—Medical Review Officer (MRO), Section 13.1(b) of the Mandatory Guidelines, “Who may serve as an MRO?” states as follows: “Nationally recognized entities that certify MROs or subspecialty boards for physicians performing a review of Federal employee drug test results that seek approval by the Secretary must submit their qualifications and a sample examination. Based on an annual objective review of the qualifications and content of the examination, the Secretary shall annually publish a list in the Federal Register of those entities and boards that have been approved.”

HHS has completed its review of entities that certify MROs, in accordance with requests submitted by such entities to HHS.

The HHS Secretary approves the following MRO certifying entities that offer MRO certification through examination:

American Association of Medical Review Officers (AAMRO), P.O. Box 12873, Research Triangle Park, NC 27709; Phone: (800) 489-1839; Fax: (919) 490-1010; Email: cferrell@aamro.com; Web site: http://www.aamro.com/.

Medical Review Officer Certification Council (MROCC), 836 Arlington Heights Road, #327, Elk Grove Village, IL 60007; Phone: (847) 631-0599; Fax: (847) 483-1282; Email: mrocc@mrocc.org; Web site: http://www.mrocc.org/.

DATES: HHS approval is effective May 26, 2015.

FOR FURTHER INFORMATION CONTACT: Jennifer Fan, Pharm.D., J.D., Division of Workplace Programs (DWP), Center for Substance Abuse Prevention (CSAP), Substance Abuse and Mental Health Services Administration (SAMHSA), 1 Choke Cherry Road, Room 7-1038, Rockville, MD 20857; Telephone: (240) 276-1759; Email: jennifer.fan@samhsa.hhs.gov

Dated: May 15, 2015.
Sylvia M. Burwell,
Secretary.

[FR Doc. 2015-12559 Filed 5-22-15; 8:45 am]

BILLING CODE 4160-20-P